DEPARTMENT OF COMMERCE

Bureau of Industry and Security

15 CFR Parts 740, 742, 744, 770, 772 and 774

[Docket No. 110928603-3999-02]

RIN 0694-AF39

Revisions to the Export Administration Regulations: Military Vehicles; Vessels of War; Submersible Vessels, Oceanographic Equipment; Related Items; and Auxiliary and Miscellaneous Items That the President Determines No Longer Warrant Control Under the United States Munitions List; Final Rule; Correction

AGENCY: Bureau of Industry and Security, Commerce.

ACTION: Final rule; correction

SUMMARY: The Bureau of Industry and Security (BIS) is correcting a final rule that appeared in the Federal Register of July 8, 2013 (78 FR 40892) (here and after referred to as the July 8 rule), which becomes effective on January 6, 2014. The July 8 rule adds to the Export Administration Regulations (EAR) controls on military vehicles and related items; vessels of war and related items; submersible vessels, oceanographic equipment and related items; and auxiliary and miscellaneous items that the President has determined no longer warrant control on the United States Munitions List (USML). The July 8 rule also adds to the EAR controls on items within the scope of the Munitions List (WAML) of the Wassenaar Arrangement on Export Controls for Conventional Arms and Dual-Use Goods and Technologies (Wassenaar Arrangement) that are not specifically identified on the USML or the Commerce Control List (CCL) but that were subject to USML jurisdiction. Finally, the July 8 rule moves certain items that were already subject to the EAR to the new Export Control Classification Numbers (ECCNs) created by this rule. The July 8 rule was published in conjunction with the publication of a Department of State, Directorate of Defense Trade Controls rule revising USML Categories VII, VI, XX, and XIII to control those articles the President has determined warrant control in those Categories of the USML. Both rules are part of the President's Export Control Reform Initiative. The revisions in the July 8 final rule are also part of Commerce's retrospective regulatory review plan under Executive Order (EO) 13563. The Department of State is also correcting today its final rule that appeared in the Federal Register of July 8, 2013 (78 FR 40922).

DATES: This rule is effective January 6, 2014.

ADDRESSES: Commerce's full plan can be accessed at: http://open.commerce.gov/news/2011/08/23/commerce-planretrospective-analysis-existing-rules.

FOR FURTHER INFORMATION CONTACT: For questions regarding ground vehicles and related items controlled under ECCNs 0Y606, contact Gene Christiansen, Office of National Security and Technology Transfer Controls, at 202-482-2984 or gene.christiansen@bis.doc.gov.

For questions regarding surface vessels and related items controlled under ECCNs 8Y609 or submersible vessels and related items controlled under ECCNs 8Y620, contact Alexander Lopes, Office of Nonproliferation and Treaty Compliance, at 202-482-4875 or alexander.lopes@bis.doc.gov.

For questions regarding miscellaneous equipment, materials, and related items controlled under ECCNs 0Y617, contact Michael Rithmire, Office of National Security and Technology Transfer Controls, at 202-482-6105 or michael.rithmire@bis.doc.gov.

SUPPLEMENTARY INFORMATION:

Background

The Bureau of Industry and Security (BIS) provides the following corrections to the final rule that appeared in the Federal Register of July 8, 2013 (78 FR 40892). These include correcting regulatory text to ensure the regulatory text reflects the intent of the July 8 final rule and the regulatory text of other final rules published implementing Export Control Reform. In addition, these corrections remove references to Export Control Classification Number (ECCN) 8A018 in other parts of the EAR because it is no longer needed based on the amendments included in the July 8 final rule.

In FR Doc. 2013-16238 appearing on page 40892 in the Federal Register of Monday, July 8, 2013, the following corrections are made:

1. On page 40892, in the first column, in the heading, “15 CFR Parts 740, 742, 770, 772 and 774” is corrected to read “15 CFR Parts 740, 742, 744, 770, 772 and 774”.

2. On page 40907, in the third column, at the end of the preamble text that begins with the heading “Amendments to ECCN 8A018” add the new heading and preamble text, “Conforming Changes for Amendments to ECCN 8A018 This final rule makes conforming changes to Supplement No. 2 to part 744—List of Items Subject to the Military End-use License Requirement of § 744.21, and ECCNs 8A002, 8A992, 8D001 and 8E001 to remove references to ECCN 8A018. The references to ECCN 8A018 are no longer needed in these other EAR references because of the amendments made to ECCN 8A018 in this final rule.”

3. On page 40910, in the second column, before the Regulatory Requirements section add the new heading and preamble text, “Clarification of “600 series” .y Paragraphs BIS has received questions from the public regarding the classification of “parts,” “components,” “accessories,” and “attachments” “specially designed” for commodities specified in the respective “600 series” .y paragraphs. These questioners believed BIS's intent was likely that such “parts,” “components,” “accessories,” and “attachments,” were also intended to be classified under those respective .y paragraphs and not under “600 series” .x paragraphs. To clarify the classification of such commodities, BIS adds the phrase “and “parts,” “components,” “accessories,” and “attachments” “specially designed” therefor” to the end of the .y paragraphs in ECCNs 0A606, 0A617, 0B617, 8A609, 8A620, 8B609 and 8B620. These changes to these .y paragraphs will make it clear that such commodities are also classified under the .y paragraphs in these respective “600 series” ECCNs.”

4. On page 40911, in the first column, the list of subjects and the words of issuance are corrected to read as follows:

List of Subjects

15 CFR Part 740

Administrative practice and procedure, Exports, Reporting and recordkeeping requirements.

15 CFR Part 742

Exports, Terrorism.

15 CFR Part 744

Exports, Reporting and recordkeeping requirements, Terrorism.

15 CFR Parts 770 and 772

Exports.

15 CFR Part 774

Exports, Reporting and recordkeeping requirements.

PART 744—[Corrected]

5. On page 40911, at the top of the third column before the Part 770 heading, add the following amendments:

4a. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of January 17, 2013, 78 FR 4303 (January 22, 2013) Notice of August 8, 2013, 78 FR 49107 (August 12, 2013); Notice of September 18, 2013, 78 FR 58151 (September 20, 2013); Notice of November 7, 2013, 78 FR 67289 (November 12, 2013).

4b. Supplement No. 2 to part 744—LIST OF ITEMS SUBJECT TO THE MILITARY END-USE LICENSE REQUIREMENT OF § 744.21, is amended by revising paragraph (8)(i) to read as follows:

SUPPLEMENT NO. 2 TO PART 744—LIST OF ITEMS SUBJECT TO THE MILITARY END-USE LICENSE REQUIREMENT OF § 744.21

* * * * *

(8) * * *

(i) 8A992 Limited to underwater systems or equipment, not controlled by 8A001 or 8A002, and “specially designed” “parts” therefor.

* * * * *

6. On page 40911, in the third column and on page 40912 in the first column, in Supplement No. 1 to part 774 (the Commerce Control List), ECCN 0A018, in amendment 10, the instruction “a. Adding a sentence to the end of the Related Controls paragraph in the List of Items Controlled section as set forth below; and b. Removing and reserving paragraph a in the Items paragraph of the List of Items Controlled section:” is corrected to read “a. Adding a sentence to the end of the Related Controls paragraph in the List of Items Controlled section as set forth below;

b. Removing the phrase “$5000 for 0A018.a” in the LVS paragraph in the License Exceptions paragraph in the List of Items Controlled section; and

c. Removing and reserving paragraph a in the Items paragraph of the List of Items Controlled section:”

7. On page 40912, in the second column, in Supplement No. 1 to part 774 (the Commerce Control List), in ECCN 0A606, “items” paragraph a in the List of Items Controlled section is corrected to read “Ground vehicles, whether manned or unmanned, “specially designed” for a military use and not enumerated or otherwise described in USML Category VII.”

8. On page 40912, in the second column, in Supplement No. 1 to part 774 (the Commerce Control List), in ECCN 0A606, in Note 1 to paragraph a, the second paragraph (iv) is redesignated as paragraph (v) and corrected to read “(v) trailers “specially designed” for use with other ground vehicles enumerated in USML Category VII or ECCN 0A606.a, and not separately enumerated or otherwise described in USML Category VII. For purposes of this note, the term “modified” does not include incorporation of safety features required by law, cosmetic changes (e.g., different paint or repositioning of bolt holes) or addition of “parts” or “components” available prior to 1956.”

9. On page 40912, in the third column, in Supplement No. 1 to part 774 (the Commerce Control List), in ECCN 0A606, “items” paragraph x in the List of Items Controlled section is corrected to read “x. “Parts,” “components,” “accessories,” and “attachments” that are “specially designed” for a commodity enumerated or otherwise described in ECCN 0A606 (other than 0A606.b or 0A606.y) or a defense article enumerated in USML Category VII and not elsewhere specified on the USML or in 0A606.y.”

10. On page 40912, in the third column, in Supplement No. 1 to part 774 (the Commerce Control List), in ECCN 0A606, in Note 2 to the “items” paragraph x in the List of Items Controlled section, is corrected to read “Note 2: “Parts,” “components,” “accessories” and “attachments” enumerated in USML paragraph VII(g) are subject to the controls of that paragraph. “Parts,” “components,” “accessories” and “attachments” described in ECCN 0A606.y are subject to the controls of that paragraph.”

11. On page 40912, in the third column, in Supplement No. 1 to part 774 (the Commerce Control List), in ECCN 0A606, the introductory text of “items” paragraph y in the List of Items Controlled section is corrected to read “y. Specific “parts,” “components,” “accessories,” and “attachments” “specially designed” for a commodity enumerated or otherwise described in this ECCN (other than ECCN 0A606.b) or for a defense article in USML Category VII and not elsewhere specified on the USML or the CCL, as follows, and “parts,” “components,” “accessories,” and “attachments” “specially designed” therefor:”

12. On page 40913, in the second column, in Supplement No. 1 to part 774 (the Commerce Control List), in ECCN 0A617, the introductory text of “items” paragraph y in the List of Items Controlled section is corrected to read “y. Other commodities as follows, and “parts,” “components,” “accessories,” and “attachments” “specially designed” therefor:”

13. On page 40913, in the third column, in Supplement No. 1 to part 774 (the Commerce Control List), in ECCN 0B606, the heading is corrected to read “0B606 Test, inspection, and production “equipment” and related commodities, not enumerated on the USML, “specially designed” for the “development,” “production,” repair, overhaul, or refurbishing of commodities enumerated or otherwise described in ECCN 0A606 or USML Category VII (see List of Items Controlled).”

14. On page 40913, in the third column, in Supplement No. 1 to part 774 (the Commerce Control List), in ECCN 0B606, “items” paragraph a in the List of Items Controlled section, is corrected to read “a. Test, inspection, and production “equipment” “specially designed” for the “development,” “production,” repair, overhaul, or refurbishing of commodities enumerated or otherwise described in ECCN 0A606 (except for 0A606.b or 0A606.y) or in USML Category VII, and “parts,” “components,” “accessories,” and “attachments” “specially designed” therefor.”

15. On page 40913, in the third column, in Supplement No. 1 to part 774 (the Commerce Control List), in ECCN 0B606, “items” paragraph b in the List of Items Controlled section is corrected to read “b. Environmental test facilities “specially designed” for the certification, qualification, or testing of commodities enumerated or otherwise described in ECCN 0A606 (except for 0A606.b or 0A606.y) or in USML Category VII, and “equipment” “specially designed” therefor.”

16. On page 40914, in the first column, in Supplement No. 1 to part 774 (the Commerce Control List), in ECCN 0B617, the heading is corrected to read “0B617 Test, inspection, and production “equipment” and related commodities “specially designed” for the “development,” “production,” repair, overhaul, or refurbishing of commodities enumerated or otherwise described in ECCN 0A617 or USML Category XIII, and “parts,” “components,” “accessories,” and “attachments” “specially designed” therefor (see List of Items Controlled).”

17. On page 40914, in the first column, in Supplement No. 1 to part 774 (the Commerce Control List), in ECCN 0B617, “items” paragraph a in the List of Items Controlled section is corrected to read “a. Test, inspection, and production “equipment” not controlled by USML Category XIII(k) “specially designed” for the “production,” “development,” repair, overhaul, or refurbishing of commodities enumerated or otherwise described in ECCN 0A617, (except for 0A617.y) or USML Category XIII, and “parts,” “components,” “accessories,” and “attachments” “specially designed” therefor.”

18. On page 40914, in the second column, in Supplement No. 1 to part 774 (the Commerce Control List), in ECCN 0C606, the “items” paragraph, including the Note, in the List of Items Controlled section, is corrected to read “Items: Materials “specially designed” for commodities enumerated or otherwise described in ECCN 0A606 (other than 0A606.b or 0A606.y) or USML Category VII, not elsewhere specified in the USML or the CCL. Note: Materials “specially designed” for both ground vehicles enumerated or otherwise described in USML Category VII and ground vehicles enumerated or otherwise described in ECCN 0A606 are subject to the controls of this ECCN unless identified in USML Category VII(g) as being subject to the controls of that paragraph.

19. On page 40914, in the third column, in Supplement No. 1 to part 774 (the Commerce Control List), in ECCN 0D606, “Related Controls” paragraph (1) in the List of Items Controlled section is corrected to read “(1) Software directly related to articles enumerated or otherwise described in USML Category VII are subject to the controls of USML paragraph VII(h).”

20. On page 40914, in the third column, in Supplement No. 1 to part 774 (the Commerce Control List), in ECCN 0D606, “items” paragraph y in the List of Items Controlled section is corrected to read “y. Specific “software” “specially designed” for the “production,” “development,” operation, or maintenance of commodities described in ECCN 0A606.y.”

21. On page 40915, in the second column, in Supplement No. 1 to part 774 (the Commerce Control List), in 0E606, “items” paragraph a in the List of Items Controlled section is corrected to read “a. “Technology” “required” for the “development,” “production,” operation, installation, maintenance, repair, overhaul, or refurbishing of commodities enumerated or otherwise described in ECCN 0A606 (except for ECCNs 0A606.b or 0A606.y).”

22. On page 40915, at the middle of the third column, add the following amendment:

17a. In Supplement No. 1 to part 774 (the Commerce Control List), Category 8—Marine, ECCN 8A002 is amended by revising the “Related Controls” paragraph (1) in the List of Items Controlled section to read as follows:

8A002 Marine systems, equipment, “parts” and “components,” as follows (see List of Items Controlled).

* * * * *

List of Items Controlled

Related Controls: (1) See also 8A992 and for underwater communications systems, see Category 5, Part I—Telecommunications. * * *

* * * * *

23. On page 40916, in the first column, in Supplement No. 1 to part 774 (the Commerce Control List) in ECCN 8A609, “items” paragraph a introductory text in the List of Items Controlled section is corrected to read “a. Surface vessels of war “specially designed” for a military use and not enumerated or otherwise described in the USML.”

24. On page 40916, in the second column, in Supplement No. 1 to part 774 (the Commerce Control List) in ECCN 8A609, “items” paragraph x introductory text in the List of Items Controlled section is corrected to read “x. Parts,” “components,” “accessories,” and “attachments” that are “specially designed” for a commodity enumerated or otherwise described in ECCN 8A609 (except for 8A609.y) or a defense article enumerated or otherwise described in USML Category VI and not specified elsewhere on the USML or in 8A609.y.”

25. On page 40916, in the second column, in Supplement No. 1 to part 774 (the Commerce Control List) in ECCN 8A609, “items” paragraph y introductory text in the List of Items Controlled section is corrected to read “y. Specific “parts,” “components,” “accessories,” and “attachments” “specially designed” for a commodity subject to control in this ECCN or for a defense article in USML Category VI and not elsewhere specified in the USML, as follows, and “parts,” “components,” “accessories,” and “attachments” “specially designed” therefor:”.

26. On page 40917, in the first column, in Supplement No. 1 to part 774 (the Commerce Control List) in ECCN 8A620, “items” paragraph a introductory text in the List of Items Controlled section is corrected to read “a. Submersible and semi-submersible vessels “specially designed” for a military use and not enumerated or otherwise described in the USML.”

27. On page 40917, in the first column, in Supplement No. 1 to part 774 (the Commerce Control List) in ECCN 8A620, “items” paragraph x in the List of Items Controlled section is corrected to read “x. “Parts,” “components,” “accessories,” and “attachments” that are “specially designed” for a commodity enumerated or elsewhere described in ECCN 8A620 (except for 8A620.b or .y) and not specified elsewhere on the USML or in 8A620.y.”

28. On page 40917, in the first column, in Supplement No. 1 to part 774 (the Commerce Control List) in ECCN 8A620, “items” paragraph y introductory text in the List of Items Controlled section is corrected to read “y. Specific “parts,” “components,” “accessories,” and “attachments” “specially designed” for a commodity subject to control in this ECCN, as follows, and “parts,” “components,” “accessories,” and “attachments” “specially designed” therefor:”.

29. On page 40917, at the top of the second column, add the following amendments: 19a. In Supplement No. 1 to part 774 (the Commerce Control List), Category 8—Marine, ECCN 8A992 is amended:

a. By revising the heading; and

b. By revising the “Related Controls” paragraph in the List of Items Controlled section to read as follows:

8A992 Vessels, marine systems or equipment, not controlled by 8A001 or 8A002, and “specially designed” “parts” and “components” therefor, and marine boilers and “parts,” “components,” “accessories,” and “attachments” therefor (see List of Items Controlled).

* * * * *

List of Items Controlled

Related Controls: See also 8A002.

* * * * *

30. On page 40917, in the second column, in Supplement No. 1 to part 774 (the Commerce Control List), in ECCN 8B609, the heading is corrected to read “8B609 Test, inspection, and production “equipment” and related commodities “specially designed” for the “development,” “production,” repair, overhaul or refurbishing of commodities enumerated or otherwise described in ECCN 8A609 or USML Category VI (except for Cat VI(f)(7)), as follows (see List of Items Controlled).”

31. On page 40917, in the second column, in Supplement No. 1 to part 774 (the Commerce Control List), in ECCN 8B609, “items” paragraph a in the List of Items Controlled section is corrected to read “a. Test, inspection, and production “equipment” “specially designed” for the “development,” “production,” repair, overhaul, or refurbishing of commodities enumerated or otherwise described in ECCN 8A609 (except for 8A609.y) or in USML Category VI (except for USML Cat VI(f)(7)), and “parts,” “components,” “accessories,” and “attachments” “specially designed” therefor.”

32. On page 40917, in the second column, in Supplement No. 1 to part 774 (the Commerce Control List), in ECCN 8B620, the heading is corrected to read “8B620 Test, inspection, and production “equipment” and related commodities “specially designed” for the “development,” “production,” repair, overhaul, or refurbishing of commodities enumerated or otherwise described in ECCN 8A620 (see List of Items Controlled).”

33. On page 40917, in the third column, in Supplement No. 1 to part 774 (the Commerce Control List) in ECCN 8B620, “items” paragraph a in the List of Items Controlled section, is corrected to read “a. Test, inspection and production “equipment” “specially designed” for the “development,” “production,” repair, overhaul or refurbishing of commodities enumerated or otherwise described in ECCN 8A620 (except for 8A620.b and .y) and “parts,” “components,” “accessories,” and “attachments” “specially designed” therefor.”

34. On page 40917, in the third column, in Supplement No. 1 to part 774 (the Commerce Control List) in ECCN 8B620, “items” paragraph b in the List of Items Controlled section, is corrected to read “b. Test, inspection, and production “equipment” “specially designed” for the “development,” “production,” repair, overhaul, or refurbishing of commodities enumerated or otherwise described in ECCN 8A620.b and “parts,” “components,” “accessories,” and “attachments” “specially designed” therefor.”

35. On page 40917, in the third column, in Supplement No. 1 to part 774 (the Commerce Control List), in ECCN 8C609, the “Related Controls” paragraph (1) in the List of Items Controlled section is corrected to read “(1) See USML Categories VI and XIII(f) for controls on materials “specially designed” for vessels of war enumerated or otherwise described in USML Category VI.”

36. On page 40918, near the top of the first column, add the following amendment: 21a. In Supplement No. 1 to part 774 (the Commerce Control List), Category 8—Marine, ECCN 8D001 is amended by revising the heading to read as follows:

8D001 “Software” “specially designed” or modified for the “development,” “production” or “use” of equipment or materials, controlled by 8A (except 8A992), 8B or 8C.

* * * * *

37. On page 40918, in the second column, in Supplement No. 1 to part 774 (the Commerce Control List), in ECCN 8D620, the “Related Controls” paragraph (1) in the List of Items Controlled section is corrected to read “(1) “Software” directly related to articles enumerated or otherwise described in USML Category XX is controlled under USML Category XX(d).”

38. On page 40918, near the bottom of the second column, add the following amendment: 22a. In Supplement No. 1 to part 774 (the Commerce Control List), Category 8—Marine, ECCN 8E001 is amended by revising the heading to read as follows:

8E001 “Technology” according to the General Technology Note for the “development” or “production” of equipment or materials, controlled by 8A (except 8A992), 8B or 8C.

* * * * *

39. On page 40918, in the third column, in Supplement No. 1 to part 774 (the Commerce Control List), in ECCN 8E609, the “Related Controls” paragraph in the List of Items Controlled section is corrected to read “Related Controls: Technical data directly related to articles enumerated or otherwise described in USML Category VI are controlled under USML Category VI(g).”

40. On page 40918, in the third column, in Supplement No. 1 to part 774 (the Commerce Control List), in ECCN 8E620, the “Related Controls” paragraph in the List of Items Controlled section is corrected to read “Related Controls: Technical data directly related to articles enumerated or otherwise described in USML Category XX are controlled under USML Category XX(d).”

Dated: December 18, 2013.
Kevin J. Wolf,
Assistant Secretary of Commerce for Export Administration.

[FR Doc. 2013-30622 Filed 12-31-13; 8:45 am]

BILLING CODE 3510-33-P